DEPARTMENT OF THE INTERIOR

Bureau of Land Management

[20X LLAZ920000.71220000.KD0000. LVTFA2058950; AZA31116]

Public Land Order No. 7894; Partial Revocation of a Withdrawal Created by an Executive Order Dated April 17, 1926, Which Established the Public Water Reserve No. 107; Arizona

AGENCY: Bureau of Land Management, Interior.

ACTION: Public land order.

SUMMARY: This Order revokes portions of a withdrawal created by an Executive Order dated April 17, 1926, which established Public Water Reserve (PWR) No. 107 insofar as it affects 378.29 acres of public lands withdrawn from settlement, sale, location, or entry under the public land laws, including location for non-metalliferous minerals under the United States mining laws, for protection of springs and waterholes. This Order opens the land to the public land laws.

DATES: This Public Land Order took effect on May 14, 2020.

FOR FURTHER INFORMATION CONTACT: Michael Werner, BLM, Arizona State Office, One North Central Avenue, Suite 800, Phoenix, AZ 85004, 602-417-9561. Persons who use a telecommunications device for the deaf (TDD) may call the Federal Relay Service (FRS) at 1-800-877-8339 to contact the above individual. The FRS is available 24 hours per day, 7 days per week, to leave a message or question. You will receive a reply during normal business hours.

SUPPLEMENTARY INFORMATION: A portion of the withdrawal created by Executive Order dated April 17, 1926, which established Public Water Reserve No. 107 (PWR No. 107), is no longer necessary for the purpose for which the land was withdrawn, and partial revocation of the withdrawal is needed to facilitate a land exchange.

Order

By virtue of the authority vested in the Secretary of the Interior by Section 204 of the Federal Land Policy and Management Act of 1976, 43 U.S.C. 1714, it is ordered as follows:

1. The withdrawal created by the Executive Order dated April 17, 1926, which established Public Water Reserve No. 107, is hereby revoked insofar as it affects the following described Federal lands:

Gila & Salt River Meridian, Arizona

T. 3 S., R. 12 E.,

Sec. 25, SE¼SW¼ and SW¼SE¼.

T. 3 S., R. 14 E.,

Sec. 33, NE¼NW¼, SW¼NW¼, SE¼SW¼ and SW1/4SE¼;

Sec. 34, SE¼SW¼.

T. 4 S., R. 14 E.,

Sec. 4, lots 3 and 4;

Sec. 5, lot 1.

The areas described aggregate 378.29 acres in Pinal County, Arizona.

2. On May 14, 2020 the land described in Paragraph 1 opened to settlement, sale, or entry under the public land laws described by the Executive Order in Paragraph 1, subject to valid existing rights, the provisions of existing withdrawals, other segregations of record, and the requirements of applicable law.

Dated: May 14, 2020.
David L. Bernhardt,
Secretary of the Interior.

[FR Doc. 2020-11265 Filed 5-26-20; 8:45 am]

BILLING CODE 4310-32-P